DEPARTMENT OF ENERGY

Federal Energy Regulatory Commission

Combined Notice of Filings #1

Take notice that the Commission received the following electric rate filings:

Docket Numbers: ER14-1711-006; ER14-1822-003.

Applicants: TC Ravenswood, LLC.

Description: Joint Uncontested Offer of Settlement of TC Ravenswood, LLC and New York Independent System Operator, Inc., et. al.

Filed Date: 10/20/14.

Accession Number: 20141020-5209.

Comments Due: 5 p.m. ET 10/31/14.

Docket Numbers: ER15-142-000.

Applicants: Midcontinent Independent System Operator, Inc.

Description: § 205(d) rate filing per 35.13(a)(2)(iii): 2014-10-21_Marshall-MRES Attachment O Filing to be effective 1/1/2015.

Filed Date: 10/21/14.

Accession Number: 20141021-5169.

Comments Due: 5 p.m. ET 11/12/14.

Docket Numbers: ER15-143-000.

Applicants: Brookfield Renewable Energy Marketing US.

Description: § 205(d) rate filing per 35.13(a)(2)(iii): Brookfield Renewable Energy Marketing US LLC to be effective 10/22/2014.

Filed Date: 10/21/14.

Accession Number: 20141021-5181.

Comments Due: 5 p.m. ET 11/12/14.

Docket Numbers: ER15-144-000.

Applicants: California Independent System Operator Corporation.

Description: § 205(d) rate filing per 35.13(a)(2)(iii): 2014-10-21_CopperMountainSolar2UFA to be effective 7/24/2014.

Filed Date: 10/21/14.

Accession Number: 20141021-5196.

Comments Due: 5 p.m. ET 11/12/14.

Docket Numbers: ER15-145-000.

Applicants: Southern California Edison Company.

Description: § 205(d) rate filing per 35.13(a)(2)(iii): GIA and Distribution Service Agmt with Walnut Valley Water District to be effective 10/18/2014.

Filed Date: 10/22/14.

Accession Number: 20141022-5001.

Comments Due: 5 p.m. ET 11/12/14.

Docket Numbers: ER15-146-000.

Applicants: ISO New England Inc.

Description: ISO New England Inc. submits Resource Termination of Plainfield Renewable Energy LLC.

Filed Date: 10/21/14.

Accession Number: 20141021-5207.

Comments Due: 5 p.m. ET 11/12/14.

Docket Numbers: ER15-147-000.

Applicants: ISO New England Inc.

Description: ISO New England Inc. submits Resource Termination of Enerwise Global Technologies.

Filed Date: 10/21/14.

Accession Number: 20141021-5208.

Comments Due: 5 p.m. ET 11/12/14.

Docket Numbers: ER15-148-000.

Applicants: ISO New England Inc.

Description: ISO New England Inc. submits Resource Termination of Direct Energy Business Management.

Filed Date: 10/21/14.

Accession Number: 20141021-5209.

Comments Due: 5 p.m. ET 11/12/14.

Docket Numbers: ER15-149-000.

Applicants: ISO New England Inc.

Description: ISO New England Inc. submits Resource Termination of Constellation NewEnergy, Inc.

Filed Date: 10/21/14.

Accession Number: 20141021-5210.

Comments Due: 5 p.m. ET 11/12/14.

Docket Numbers: ER15-150-000.

Applicants: ISO New England Inc.

Description: ISO New England Inc. submits Resource Termination of Brookfield White Pine Hydro, LLC.

Filed Date: 10/21/14.

Accession Number: 20141021-5211.

Comments Due: 5 p.m. ET 11/12/14.

Docket Numbers: ER15-151-000.

Applicants: AEP Generation Resources Inc.

Description: § 205(d) rate filing per 35.13(a)(2)(iii): Ohio Power Supply Agreement Amendment to be effective 11/1/2014.

Filed Date: 10/22/14.

Accession Number: 20141022-5072.

Comments Due: 5 p.m. ET 11/12/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 22, 2014.
Nathaniel J. Davis, Sr.,
Deputy Secretary.

[FR Doc. 2014-25711 Filed 10-28-14; 8:45 am]

BILLING CODE 6717-01-P